DEPARTMENT OF COMMERCE

National Oceanic and Atmospheric Administration

50 CFR Part 648

[Docket No. 150105004-5355-01]

RIN 0648-XE398

Fisheries of the Northeastern United States; Northeast Multispecies Fishery; Trip Limit Adjustment for the Common Pool Fishery

AGENCY: National Marine Fisheries Service (NMFS), National Oceanic and Atmospheric Administration (NOAA), Commerce.

ACTION: Temporary rule; inseason adjustment.

SUMMARY: This action decreases the possession and trip limit for Southern New England/Mid-Atlantic yellowtail flounder for Northeast multispecies common pool vessels for the remainder of the 2015 fishing year. The most recent catch data indicates that the common pool is expected to reach its annual quota for this stock before the end of January. Decreasing the trip limit is intended to prevent the common pool fishery from exceeding its allocation for the stock in the 2015 fishing year, and from triggering an area closure for portions of Southern New England/Mid-Atlantic.

DATES: The possession and trip limit decrease is effective January 15, 2016, through April 30, 2016.

FOR FURTHER INFORMATION CONTACT: Liz Sullivan, Fishery Management Specialist, 978-282-8493.

SUPPLEMENTARY INFORMATION: The regulations at § 648.86(o) authorize the Regional Administrator to adjust the possession and trip limits for common pool vessels in order to help prevent the overharvest or underharvest of the common pool quotas.

Based on information and data reported through January 5, 2016, the common pool fishery has caught approximately 76 percent of its annual quota for Southern New England/Mid-Atlantic (SNE/MA) yellowtail flounder. At the current rate of fishing, the common pool fishery is projected to reach its annual quota by January 26, 2016. Any overage of the annual quota will be deducted from the next fishing year's annual quota. Additionally, we project that 90 percent of the common pool's Trimester 3 Total Allowable Catch (TAC) for SNE/MA yellowtail flounder will be reached by January 24, 2016. If the common pool reaches 90 percent of the Trimester TAC, we are required by regulations at § 648.82(n)(2)(ii) to close the SNE/MA Yellowtail Flounder Trimester TAC Area (defined at § 648.82(n)(2)(ii)(F)) to all common pool vessels fishing on groundfish trips with trawl and sink gillnet gear.

The current possession and trip limit of SNE/MA yellowtail flounder is 2,000 lb (907 kg) per day-at-sea (DAS), and up to 6,000 lb (2,722 kg) per trip for common pool vessels. To help prevent the common pool fishery from exceeding its SNE/MA yellowtail flounder allocation for the 2015 fishing year, and to help prevent the common pool from triggering a closure of the SNE/MA Yellowtail Flounder Trimester TAC Area for the remainder of the fishing year by reaching 90 percent of the Trimester 3 TAC, effective January 15, 2016, the possession and trip limit of SNE/MA yellowtail flounder for all common pool vessels is decreased to 50 lb (22.7 kg) per trip.

Common pool groundfish vessels that have declared their trip through the vessel monitoring system (VMS) or interactive voice response (IVR) system, and crossed the VMS demarcation line prior to January 15, 2016, are not subject to the new possession and trip limit for that trip.

Weekly quota monitoring reports for the common pool fishery can be found on our Web site at: http://www.greateratlantic.fisheries.noaa.gov/ro/fso/MultiMonReports.htm. We will continue to monitor common pool catch through vessel trip reports, dealer-reported landings, vessel monitoring system catch reports, and other available information and, if necessary, we will make additional adjustments to common pool management measures.

Classification

This action is required by 50 CFR part 648 and is exempt from review under Executive Order 12866.

The Assistant Administrator for Fisheries, NOAA, finds good cause pursuant to 5 U.S.C. 553(b)(B) and 5 U.S.C. 553(d)(3) to waive prior notice and the opportunity for public comment and the 30-day delayed effectiveness period because it would be impracticable and contrary to the public interest.

The regulations at § 648.86(o) authorize the Regional Administrator to adjust the Northeast multispecies possession and trip limits for common pool vessels in order to help prevent the overharvest or underharvest of the pertinent common pool quotas. The catch data used as the basis for this action only recently became available. The available analysis indicates that if the SNE/MA yellowtail flounder possession and trip limit are not reduced immediately, the common pool fishery will likely exceed its 2015 fishing year allocation for this stock by January 26, 2016. Analysis also indicates that if the possession and trip limit are not reduced immediately, the common pool fishery will likely reach 90 percent of its Trimester 3 TAC by January 24, 2016, triggering a closure of the SNE/MA Yellowtail Flounder Trimester TAC Area. This action reduces the probability of the common pool fishery exceeding its allocation for SNE/MA yellowtail flounder. Any overages of the common pool quota for this stock would undermine conservation objectives and trigger the implementation of accountability measures that would have negative economic impacts on the common pool vessels. The time necessary to provide for prior notice and comment, and a 30-day delay in effectiveness, would prevent NMFS from implementing the necessary possession and trip limit adjustment in a timely manner, which could undermine conservation objectives of the Northeast Multispecies Fishery Management Plan, and cause negative economic impacts to the common pool fishery.

Authority: 16 U.S.C. 1801 et seq.

Dated: January 13, 2016.
Emily H. Menashes,
Acting Director, Office of Sustainable Fisheries, National Marine Fisheries Service.

[FR Doc. 2016-00909 Filed 1-15-16; 8:45 am]

BILLING CODE 3510-22-P